DEPARTMENT OF ENERGY

Basic Energy Sciences Advisory Committee

AGENCY: Department of Energy, Office of Science.

ACTION: Notice of renewal of the Basic Energy Sciences Advisory Committee.

SUMMARY: Pursuant to Section 14(a)(2)(A) of the Federal Advisory Committee Act (Pub. L. 92-463), and in accordance with Title 41, Code of Federal Regulations, Section 102.3 65(a), and following consultation with the Committee Management Secretariat, General Services Administration, notice is hereby given that the Basic Energy Sciences Advisory Committee will be renewed for a two-year period beginning July 29, 2011. The Committee provides advice and recommendations to the Director, Office of Science concerning the Basic Energy Sciences program.

Additionally, the renewal of the Basic Energy Sciences Advisory Committee has been determined to be essential to the conduct of the Department's mission and to be in the public interest in connection with the performance of duties imposed upon the Department of Energy by law and agreement. The Committee will operate in accordance with the provisions of the Federal Advisory Committee Act, and rules and regulations issued in implementation of that Act.

FOR FURTHER INFORMATION CONTACT: Ms. Harriet Kung, Designated Federal Officer, by telephone at (301) 903-3081.

Issued at Washington, DC, on July 29, 2011.
Carol A. Matthews,
Committee Management Officer.

[FR Doc. 2011-20013 Filed 8-5-11; 8:45 am]

BILLING CODE 6450-01-P